DEPARTMENT OF ENERGY

Federal Energy Regulatory Commission

[Docket No. CP14-46-000]

Southwest Gas Storage Company; Notice of Request Under Blanket Authorization

Take notice that on January 16, 2014, Southwest Gas Storage Company (Southwest), 1300 Main Street, Houston, Texas 77002, filed in Docket No. CP14-46-000, an application pursuant to sections 157.205 and 157.216(b) of the Commission's Regulations under the Natural Gas Act (NGA) as amended, requesting authorization to abandon in place an 1,100 horsepower (HP) compressor unit and related equipment, located at Southwest's Waverly Storage Compressor Station in Morgan County, Illinois. The authorizations are requested under Southwest's blanket certificate issued in Docket No. CP99-230-000,¹ all as more fully set forth in the application which is on file with the Commission and open to public inspection.

¹ See Southwest Gas Storage Co., 86 FERC ¶ 62,232 (1999).

Southwest proposes to abandon in place the unit identified as W-10, with appurtenances. This unit was installed under the authority granted in FPC Docket No. CP71-73.² ANR intends to abandon its unit W-10 because it does not anticipate needing it at its present location for the foreseeable future, it has become increasingly expensive to maintain. The proposed abandonment activity will not involve ground disturbance or increases to operational air or noise emissions. The unit has not been used for over twelve months. The estimated cost to replicate the 1,100 HP compressor unit proposed to be abandoned is $8.5 million.

² See Panhandle Eastern Pipeline Company, 45 FPC 994 (1971).

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application should be directed to Stephen Veatch, Sr., Director of Certificates, Southwest Gas Storage Company, 1300 Main Street, Houston, Texas, 77002, or call (713) 989-2024, fax (713) 989-1205, or email stephen.veatch@energytransfer.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Comment date: March 28, 2014.

Dated: January 27, 2014.
Kimberly D. Bose,
Secretary.

[FR Doc. 2014-02129 Filed 1-31-14; 8:45 am]

BILLING CODE 6717-01-P